DEPARTMENT OF TRANSPORTATION

Federal Aviation Administration

RTCA Special Committee 147: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held June 12-13, 2001 starting at 9:00 a.m.

ADDRESSES: The meeting will be held at RTCA, Inc., 1140 Connecticut Avenue, NW., Suite 1120, Washington, DC 20036.

FOR FURTHER INFORMATION CONTACT: RTCA Secretariat, 1140 Connecticut Avenue, NW., Washington, DC 20036; telephone (202) 833-9339; fax (202) 833-9434; web site http://www.rtca.org.

SUPPLEMENTARY INFORMATION: Pursuant to section 10(a)(2) of the Federal Advisory Committee Act (Public Law 92-463, 5 U.S.C., Appendix 2), notice is hereby given for a Special Committee 147 meeting. The agenda will include:

• June 12, 13:

• Opening Session (Welcome and Introductory Remarks, Review/Approve Summary of Previous Meeting, Review of Open Action Items)

• FAA Traffic Alert and Collision Avoidance System (TCAS) Program Status Report (FAA Headquarters, Technical Center and ARINC Monitoring Program)

• EUROCONTROL TCAS Transition Program (Implementation Status, Problems Discovered from Europeans, Monitoring Programs, EMOTION/7 Discussions)

• Requirements Working Group (RWG) report on RWG proposed changes to DO-185A and review of RWG recommendations

• Closing Session (Future Actions/Activities, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 17, 2001.
Janice L. Peters,
FAA Special Assistant, RTCA Advisory Committee.

[FR Doc. 01-13050 Filed 5-22-01; 8:45 am]

BILLING CODE 4910-13-M